DEPARTMENT OF ENERGY

Federal Energy Regulatory Commission

[Docket Nos. RM05-25-000; RM05-17-000]

Preventing Undue Discrimination and Preference in Transmission Service; Notice of Extension of Time

April 29, 2008.

On April 17, 2008, North American Electric Reliability Corporation (NERC) submitted an additional request for an extension of time for public utilities to modify reliability standards related to the calculation of Available Transfer Capability (ATC) in compliance with Order No. 890 and Order No. 693, currently required by May 9, 2008.¹ NERC states that five of the ATC-related reliability standards (MOD-001, MOD-008, MOD-028, MOD-029 and MOD-030) will be completed by August 29, 2008 and expects that work on the sixth reliability standard related to Capacity Benefit Margin (MOD-004) will be competed by November 21, 2008. NERC explains that this additional time is needed to adequately address the concerns raised by the industry regarding the need to fully vet and vote for these reliability standards.

¹ See Notice of Extension of Time, Docket Nos. RM05-17-000, et al. (Dec. 6, 2007).

Upon consideration, notice is hereby given that public utilities are granted an extension of time to modify, working through NERC, the reliability standards related to the calculation of ATC as follows: MOD-001, MOD-008, MOD-028, MOD-029, and MOD-030 shall be submitted on or before August 29, 2008 and MOD-004 shall be submitted on or before November 21, 2008. Public utilities are also granted an extension of time to and including November 27, 2008, to develop, through the North American Energy Standards Board (NAESB), business practices that support the revisions to the NERC reliability standards MOD-001, MOD-008, MOD-028, MOD-029, and MOD-030 and an extension of time to and including February 19, 2009, to develop, through NAESB, business practices that complement the revisions to the NERC reliability standard MOD-004.

Kimberly D. Bose,
Secretary.

[FR Doc. E8-9905 Filed 5-5-08; 8:45 am]

BILLING CODE 6717-01-P